CONSUMER PRODUCT SAFETY COMMISSION

[CPSC Docket No. 08-C0017]

Siegfried & Parzifal, Inc., Provisional Acceptance of a Settlement Agreement and Order

Correction

In notice document Z8-18399 beginning on page 46885 in the issue of Tuesday, August 12, 2008, make the following correction:

On page 46885, in the first column, under the DATES heading, in the fifth line, “(insert date that is 15 calendar days from publication date)” should read “August 27, 2008”.

[FR Doc. Z8-18399 Filed 8-20-08; 8:45 am]

BILLING CODE 1505-01-D